DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2008, there were four applications approved. This notice also includes information on two applications, approved in December 2007, inadvertently left off the December 2007 notice. Additionally, 15 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Columbus Regional Airport Authority, Columbus, Ohio.

Application Number: 08-08-C-00-CMH.

Application Type: Impose and use a PFC.

PFC Level: $4.50.

Total PFC Revenue Approved in This Decision: $71,050,296.

Earliest Charge Effective Date: February 1, 2010.

Estimated Charge Expiration Date: April 1, 2013.

Class of Air Carriers Not Required To Collect PFCs: Air taxi/commercial operators when enpianing revenue passengers in service and equipment reportable to FAA on FAA Form 1800-31.

Determination: Approved. Based on information submitted in the public agency's application, the FAA has determined that the approved class accounts for tess than 1 percent of the total annual enplanements at Port Columbus International Airport.

Brief Description of Projects Approved for Collection and Use at a $4.50 PFC Level: Preliminary planning, preliminary engineering, preliminary feasibility and other studies for replacement runway 10R128L.

Environmental impact statement—replacement runway 1 OR/28L. Crossover taxiway.

Air rescue replacement vehicle. Concourse B capacity enhancements.

Brief Description of Projects Approved for Collection and Use at a $3.00 PFC Level: Pavement management program updates.

High-speed runway brooms with plows.

Terminal heating, ventilation and air conditioning, lighting, and electrical improvements.

Ticket lobby restroom expansion.

Concourse A and related terminal modifications and improvements.

International Gateway roadway loop system.

Stelzer Road/International Gateway interchange—east element.

Stelzer Road/International Gateway interchange—west element.

Project formulation.

Decision Date: December 26, 2007.

FOR FURTHER INFORMATION CONTACT: Irene Porter, Detroit Airports District Office, (734) 229-2915.

Public Agency: City of Cortez, Colorado.

Application Number: 08-02-C-00-CEZ.

Application Type: Impose and use a PFC.

PFC Level: $4.50.

Total PFC Revenue Approved in This Decision: $339,072.

Earliest Charge Effective Date: March 1, 2008.

Estimated Charge Expiration Date: March 1, 2016.

Class of Air Carriers Not Required To Collect PFCs: Part 135 operators.

Determination: Approved. Based on information submitted in the public agency's application, the FAA has determined that the approved class accounts for less than 1 percent of the total annual enpianements at Cortez Municipal Airport.

Brief Description of Projects Approved for Collection and Use:

Widen taxiway A north and construct A-3 connector.

Acquire land.

Airport layout plan update.

Resurface runway 3/21 (design).

Resurface runway 3/21 (construction).

Construct helicopter parking ramp.

Tie-down ramp rehabilitation.

Construct snow removal equipment building.

Widen taxiway A south and construct A-4 connector.

Decision Date: December 28, 2007.

FOR FURTHER INFORMATION CONTACT: Chris Schaffer, Denver Airports District Office, (303) 342-1258.

Public Agency: Cities of Midland and Saginaw and County of Bay, Saginaw, Michigan.

Applications Number: 08-06-C-00-MBS.

Application Type: Impose and use a PFC.

PFC Level: $4.50.

Total PFC Revenue Approved in This Decision: $2,783,693.

Earliest Charge Effective Date: April 1, 2008.

Estimated Charge Expiration Date: February 1,2011.

Class of Air Carriers Not Required To Collect PFCs: Part 135 air taxi/commercial operators filing FAA Form 1800-31.

Determination: Approved. Based on information submitted in the public agency's application, the FAA has determined that the approved class accounts for less than 1 percent of the total annual enplanements at MBS International Airport.

Brief Description of Projects Approved for Collection and Use:

Design and construct sand storage building.

Reimbursement of PFC application preparation.

Reimbursement of audits for PFC program.

Terminal renovation study, phase 1.

Design and construct security system (flight information display system).

Snow removal equipment material spreader procurement.

Terminal sewer system rehabilitation.

Design and construct airfield pavement marking.

Terminal study, phase 2.

Land consultant.

Snow removal equipment snow sweeper procurement.

Rehabilitate general aviation apron, taxiway to 05 end, blast pads, taxiway A, and terminal apron.

Land acquisition, Krauss property.

Design of new terminal building.

Construct new terminal building utilities/site preparation.

Construct new terminal foundation and steel framing.

Decision Date: January 3, 2008.

FOR FURTHER INFORMATION CONTACT: Jason Waft, Detroit Airports District Office, (734) 229-2906.

Public Agency: City of Greenville, Mississippi.

Application Number: 08-05-C-00-GLH.

Application Type: Impose and use a PFC.

PFC Level: $4.50.

Total PFC Revenue Approved in This Decision: $39,427.

Earliest Charge Effective Date: August 1, 2008.

Estimated Charge Expiration Date: August 1, 2011.

Class of Air Carriers Not Required To Collect PFCs: Air taxi/commercial operators filing FAA Form 1800-31.

Determination: Approved. Based on information submitted in the public agency's application, the FAA has determined that the approved class accounts for less than 1 percent of the total annual enplanements at Mid Delta Regional Airport.

Brief Description of Projects Approved for Collection and Use:

Rehabilitate medium intensity runway lighting, runway 18R136L.

Rehabilitate runway 18R136L pavement.

Acquire aircraft rescue and firefighting equipment.

Runway 18L/36R safety area improvements, phase I.

Decision Date: January 3, 2008.

FOR FURTHER INFORMATION CONTACT: Jeffrey Orr, Jackson Airports District Office, (601) 664-9885.

Public Agency: County of Westchester, White Plains, New York.

Application Number: 08-04-C-00-HPN.

Application Type: Impose and use a PFC.

PFC Level: $4.50.

Total PFC Revenue Approved in This Decision: $4,000,000.

Earliest Charge Effective Date: December 1, 2008.

Estimated Charge Expiration Date: January 1, 2010.

Class of Air Carriers Not Required To Collect PFCs: Non-scheduled/on-demand air carriers filing FAA Form 1800-31.

Determination: Approved. Based on information submitted in the public agency's application, the FAA has determined that the approved class accounts for less than 1 percent of the total annual enplanements at Westchester County Airport.

Brief Description of Project Approved for Collection and Use:

Construct two passenger walkways.

Decision Date: January 24, 2008.

FOR FURTHER INFORMATION CONTACT: Dan Vornea, New York Airports District Office, (516) 227-3812.

Public Agency: City of Roswell, New Mexico.

Application Number: 08-03-C-00-ROW.

Application Type: Impose and use a PFC.

PFC Level: $4.50.

Total PFC Revenue Approved in This Decision: $148,988.

Earliest Charge Effective Date: March 1, 2008.

Estimated Charge Expiration Date: June 1, 2009.

Class of Air Carriers Not Required To Collect PFCs: None.

Brief Description of Projects Approved for Collection and Use:

Rehabilitate runway 3/21.

Rehabilitate taxiway.

Construct aircraft rescue and firefighting access roads.

Construct east service road.

Terminal heating, ventilation, and air conditioning and re-roof.

Procure aircraft rescue and firefighting truck.

Restroom modification, terminal.

Elevator replacement terminal building.

Electric vault and signage.

PFC administration.

Decision Date: January 28, 2008.

FOR FURTHER INFORMATION CONTACT: Andy Velayos, Louisiana! New Mexico Airports Development Office, (817) 222-5647.

AMENDMENTS TO PFC APPROVALS
Amendment No. city, state | Amendment approved date | Original approved net PFC revenue | Amended approved net PFC revenue | Original estimated charge exp. date | Amended estimated charge exp. date
*05-02-C-01-SBY, Salisbury, MD | 09/28/07 | $1,827,724 | $1,386,715 | 07/01/14 | 06/01/12
92-01-C-05-STL, St. Louis, MO | 12/17/07 | 67,933,947 | 58,088,964 | 08/01/95 | 08/01/95
95-02-C-07-STL, St. Louis, MO | 12/17/07 | 75,131,773 | 67,032,109 | 07/01/97 | 07/01/97
00-06-C-02-STL, St. Louis, MO | 12/17/07 | 856,241,230 | 616,496,417 | 04/01/14 | 12/01/17
01-07-C-02-STL, St. Louis, MO | 12/17/07 | 81,330,000 | 64,824,753 | 12/01/16 | 06/01/19
03-08-C-01-STL, St. Louis, MO | 12/17/07 | 13,806,955 | 0 | 06/01/17 | 06/01/19
06-05-C-01-RDM, Redmond, OR | 01/03/08 | 645,420 | 1,229,416 | 05/01/08 | 05/01/08
03-04-C-02-JAN, Jackson, MS | 01/07/08 | 5,101,722 | 4,639,569 | 01/01/08 | 11/01/07
05-08-C-02-COS, Colorado Springs, CO | 01/10/08 | 7,422,980 | 7,756,638 | 09/01/05 | 10/01/05
07-11-C-01-COS, Colorado Springs, CO | 01/10/08 | 758,359 | 1,942,578 | 08/01/09 | 12/01/09
04-08-C-01-EYW, Key West, FL | 01/11/08 | 425,250 | 360,250 | 07/01/05 | 07/01/05
03-13-C-01-OAK, Oakland, CA | 01/14/08 | 176,267,000 | 190,285,000 | 09/01/10 | 03/01/11
00-06-C-05-MKE, Milwaukee, WI | 01/15/08 | 130,460,739 | 130,560,739 | 02/01/14 | 02/01/14
00-03-C-01-CHA, Chattanooga, TN | 01/18/08 | 23,427,222 | 19,746,474 | 05/01/15 | 01/01/12
06-03-C-01-HVN, New Haven, CT | 01/24/08 | 663,054 | 805,753 | 06/01/07 | 02/01/09

The amendment denoted by an asterisk (*) includes a change to the PFC level charged from $3.00 per enplaned passenger to $4.50 per enplaned passenger. For Salisbury, MD, this change is effective on March 1, 2008.

Issued in Washington, DC on April 3, 2008.
Myrna Rivera,
Acting Manager, Financial Analysis and Passenger Facility Charge Branch.

[FR Doc. E8-8078 Filed 4-15-08; 8:45 am]

BILLING CODE 4910-13-M